DEPARTMENT OF LABOR

Employment and Training Administration

[TA-W-59,872]

Tri-Matic Screw Products Incorporated; Howell, MI; Notice of Termination of Investigation

Pursuant to section 221 of the Trade Act of 1974, as amended, an investigation was initiated on August 9, 2006 in response to a petition filed by a company official on behalf of workers at Tri-Matic Screw Products Incorporated, Howell, Michigan.

The petitioner has requested that the petition be withdrawn. Consequently, the investigation has been terminated.

Signed in Washington, DC, this 7th day of September 2006.
Linda G. Poole,
Certifying Officer, Division of Trade Adjustment Assistance.

[FR Doc. E6-15632 Filed 9-20-06; 8:45 am]

BILLING CODE 4510-30-P